FEDERAL DEPOSIT INSURANCE CORPORATION

FDIC Section 515 Information Quality Guidelines

AGENCY: Federal Deposit Insurance Corporation.

ACTION: Notice of availability of guidelines and request for comments.

SUMMARY: The Federal Deposit Insurance Corporation (FDIC) is seeking comments on its draft Section 515 Information Quality Guidelines, which are available on the FDIC Web site: http://www.fdic.gov/regulations/laws/publiccomments/index.html. The Information Quality Guidelines describe the FDIC's procedures for reviewing and substantiating the quality of information before it is disseminated to the public, and the procedures by which an affected person may request correction of information disseminated by the FDIC that does not comply with the information quality guidelines. The FDIC will consider comments in developing its final information quality guidelines.

DATES: Comments are due by June 1, 2002.

ADDRESSES: Written comments should be addressed to Robert E. Feldman, Executive Secretary, Attention: Comments/OES, Federal Deposit Insurance Corporation, 550 17th Street, NW, Washington, DC 20429. Comments may be hand delivered to the guard station at the rear of the 550 17th Street Building (located on F Street) on business days between 7 a.m. and 5 p.m. Send facsimile transmissions to fax number (202) 898-3838. Comments may be submitted electronically to comments@fdic.gov. Comments may be inspected and photocopied in the FDIC Public Information Center, Room 100, 801 17th Street, NW., Washington, DC 20429, between 9 a.m. and 4:30 p.m. on business days.

FOR FURTHER INFORMATION CONTACT: Patricia Klear, Special Assistant to the Director, Division of Information Resources Management, 3501 Fairfax Drive, Room 7083, Arlington, VA 22226 pklear@fdic.gov.

SUPPLEMENTARY INFORMATION:

Authority: Section 515 of the Treasury and General Government Appropriations Act for Fiscal Year 2001 (Pub. L. 106-554; 114 Stat. 2763).

Dated: April 23, 2002.
Federal Deposit Insurance Corporation.
Robert E. Feldman,
Executive Secretary.

[FR Doc. 02-10430 Filed 4-30-02; 8:45 am]

BILLING CODE 6714-01-P